DEPARTMENT OF THE TREASURY

Submission for OMB Review; Comment Request

July 24, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 28, 2006 to be assured of consideration.

Internal Revenue Service (IRS)

OMB Number: 1545-0193.

Type of Review: Extension.

Title: Tax on Lump Sum Distributions (From Qualified Plans of Participants Born Before January 2, 1936).

Form: 4972.

Description: IRC Section 402(e) allows taxpayers to compute a separate tax on a lump sum distribution from a qualified retirement plan. Form 4972 is used to correctly figure that tax. The data is used to verify the correctness of the separate tax. Form 4972 is also used to make the special 20% capital gain election attributable to pre-1974 participation from the lump-sum distribution.

Respondents: Business or other for-profit, individuals and households.

Estimated Total Burden Hours: 95,520 hours.

OMB Number: 1545-0144.

Type of Review: Revision.

Title: Undistributed Capital Gains Tax Return.

Form: 2438.

Description: Form 2438 is used by regulated investment companies to figure capital gains tax on undistributed capital gains designated under IRC section 852(b)3(D). IRS uses this information to determine the correct tax.

Respondents: Businesses, individuals and households.

Estimated Total Burden Hours: 879 hours.

OMB Number: 1545-1837.

Type of Review: Extension.

Title: Revenue Procedure 2003-36, Industry Issue Program.

Description: Revenue Procedure 2003-36 describes the procedures for business taxpayers, industry associations, and other representing business taxpayers to submit issues for resolution under the IRS's Industry Issues Resolution Program.

Respondents: Business or other for-profit institutions.

Estimated Total Burden Hours: 2,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-12076 Filed 7-27-06; 8:45 am]

BILLING CODE 4830-01-P